GENERAL SERVICES ADMINISTRATION

[Notice-MA-2018-02; Docket No. 2018-0002; Sequence No. 6]

Request for Comment: New Federal Real Property Profile Information for Communications Facility Installation: Correction

AGENCY: Office of Government-wide Policy (OGP), General Services Administration (GSA).

ACTION: Correction.

SUMMARY: GSA published a notice in the Federal Register on May 7, 2018 at 83 FR 20078, regarding Request for Comment: New Federal Real Property Profile Information for Communications Facility Installation. GSA is making corrections to the Dates section to clarify the comment due date.

DATES: This notice is effective May 11, 2018.

FOR FURTHER INFORMATION CONTACT: For further information on this document, please contact Chris Coneeney, Realty Specialist, Office of Government-wide Policy, 202-208-2956 or chris.coneeney@gsa.gov.

For information pertaining to the status or publication schedules, contact the Regulatory Secretariat Division (MVCB), 1800 F Street NW, Washington, DC 20405, 202-501-4755. Please cite Notice MA-2018-02: Correction.

SUPPLEMENTARY INFORMATION:

Correction

In the notice FR Doc. 2018-09671 published in the Federal Register at 83 FR 20078 on May 7, 2018, make the following correction: On page 20078, in the first column, under the section Dates, remove “This notice is effective July 6, 2018” and add “Please submit comments by July 21, 2018” in its place.

Dated: May 8, 2018.
Alexander J. Kurien,
Deputy Associate Administrator, Office of Asset and Transportation Management, Office of Government-wide Policy.

[FR Doc. 2018-10119 Filed 5-10-18; 8:45 am]

BILLING CODE 6820-14-P